FEDERAL COMMUNICATIONS COMMISSION

47 CFR Part 73

[DA 01-1078, MM Docket No. 01-30, RM-10042]

Digital Television Broadcast Service; Bozeman, MT

AGENCY: Federal Communications Commission.

ACTION: Final rule.

SUMMARY: The Commission, at the request of KCTZ Communications, Inc., licensee of station KBZK(TV), substitutes DTV channel 13 for DTV channel 16 at Bozeman, Montana. See 66 FR 9062, February 6, 2001. DTV channel 13 can be allotted to Bozeman in compliance with the principle community coverage requirements of Section 73.625(a) at reference coordinates (45-40-24 N. and 110-52-02 W.) with a power of 160, HAAT of 305 meters and with a DTV service population of 79 thousand. Since the community of Bozeman is located within 400 kilometers of the U.S.-Canadian border, concurrence by the Canadian government has been obtained for this allotment.

With this action, this proceeding is terminated.

DATES: Effective June 15, 2001.

FOR FURTHER INFORMATION CONTACT: Pam Blumenthal, Mass Media Bureau, (202) 418-1600.

SUPPLEMENTARY INFORMATION: This is a synopsis of the Commission's Report and Order, MM Docket No. 01-30, adopted April 27, 2001, and released May 1, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Montana, is amended by removing DTV channel 16 and adding DTV channel 13 at Bozeman.

Federal Communications Commission.
Barbara A. Kreisman,
Chief, Video Services Division, Mass Media Bureau.

[FR Doc. 01-11173 Filed 4-3-01; 8:45 am]

BILLING CODE 6712-01-P